ENVIRONMENTAL PROTECTION AGENCY

[EPA-HQ-OEI-2014-0776; FRL-9933-14-OEI]

Creation of a New System of Records Notice: Eventbrite

AGENCY: U.S. Environmental Protection Agency.

ACTION: Notice.

SUMMARY: The U.S. Environmental Protection Agency's (EPA) Office of the Chief Financial Officer is giving notice that it proposes to create a new system of records pursuant to the provisions of the Privacy Act of 1974 (5 U.S.C. 552a). This system of records contains personally identifiable information (PII) collected from individuals registering to attend EPA-hosted meetings and events.

DATES: Persons wishing to comment on this system of records notice must do so by October 7, 2015.

ADDRESSES: Submit your comments, identified by Docket ID No. EPA-HQ-OEI-2014-0776, by one of the following methods:

• www.regulations.gov: Follow the online instructions for submitting comments.

• Email: oei.docket@epa.gov

• Fax: 202-566-1752.

• Mail: OEI Docket, Environmental Protection Agency, Mailcode: 2822T, 1200 Pennsylvania Ave. NW., Washington, DC 20460.

• Hand Delivery: OEI Docket, EPA/DC, WJC West Building, Room 3334, 1301 Constitution Ave. NW., Washington, DC. Such deliveries are only accepted during the Docket's normal hours of operation, and special arrangements should be made for deliveries of boxed information.

Instructions: Direct your comments to Docket ID No. EPA-HQ-OEI-2014-0776. The EPA's policy is that all comments received will be included in the public docket without change and may be made available online at www.regulations.gov including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room 3334, 1301 Constitution Ave. NW., Washington, DC 20004. The Public Reading Room is open from 8:30 a.m. to 4:30 p.m., Monday through Friday excluding legal holidays. The telephone number for the Public Reading Room is (202) 566-1744, and the telephone number for the OEI Docket is (202) 566-1752.

FOR FURTHER INFORMATION CONTACT: Jessica Orquina, U.S. EPA, 202-564-0446.

SUPPLEMENTAL INFORMATION:

General Information

The U.S. Environmental Protection Agency (EPA) plans to create a Privacy Act system of records for the online registration tool, Eventbrite. Eventbrite is a free, online registration tool that can be used to collect basic information for meetings and other events. Agency users can customize the registration page to a certain degree and upload images, such as a company logo or seal. For official EPA business, Agency users are permitted to upload the EPA logo or seal, and follow the format, U.S. EPA Meeting/Event Name, for their title. The information collected by Eventbrite is used to determine the number of participants attending an event and may also be used to print nametags or tent cards. In order to register for an EPA meeting or event, it is necessary to collect basic personal information, such as name, title, organization, mailing address, email address, and phone number. This information will be used for internal Agency purposes only and will not be shared with a third party other than Eventbrite. The information collected will be used for the specific event only and will not be used for marketing or other purposes after the event has concluded. The individual attending the meeting will be permitted to opt out of using the online registration tool if they prefer not to share their information in this manner. On the Eventbrite page, the event organizer can enter contact information for a designated point of contact who can answer questions about the event or collect registration information over the phone. This tool may be used by EPA employees at no cost to the government. In order to use this tool for official EPA business, an account must be set up using an epa.gov email address, for example, doe.john@epa.gov.

Each Eventbrite registration Web site has a unique “URL” or Web site address associated with it. The URL can only be accessed by individuals who receive it from the event organizer. There will be no publicly accessible Web site that will list invitation-only events and so there will not be an opportunity for anyone other than the intended audience to register for such events. Registration information will be saved on the password-protected Eventbrite.com Web site and only the designated organizer for a given event will be authorized and permitted to access the information. Once accessed and downloaded, the registration information will be saved on the EPA server. There will be no central location on the EPA server where registration information will be maintained. Registration information will be saved by the event organizer in the EPA office that is organizing the event. Therefore, the only person or people who will have access to the registration information will be EPA staff who have access to the EPA network drive used to store the information. Each office has their own secure network drive, so the information collected by each office will be secure within that office.

Dated: August 19, 2015.
Ann Dunkin,
Chief Information Officer.

EPA-69

System Name:

Eventbrite.

System Location:

Records are located in EPA offices, on computer servers in Headquarters, Regional Offices and at the third-party location.

Categories of Individuals Covered by the System:

Any individual that registers for an EPA-organized event using Eventbrite.com.

Categories of Records in the System:

Information to be collected for purposes of creating an attendee roster for a specific event. Information collected may include name, title, organization, mailing address, email address, phone number, and special accommodations (such as visual or hearing impairment).

Authority for Maintenance of the System (includes any revisions or amendments):

Section 2 of the E-Government Act of 2002 (Pub. L. 107-347, 44 U.S.C. 3601 n.); Section 2 of the Paperwork Reduction Act of 1995 (Pub. L. 104-13, 44 U.S.C. 3501)

Purpose(s):

The purpose of the Eventbrite tool is to collect information on meeting attendees that can be used for a head count, attendee roster, or printed materials, such as nametags and tent cards.

Routine Uses of Records Maintained in the System, Including Categories of Users and the Purposes of Such Uses:

General routine uses B, H, I, J, K, and L apply to this system. (A detailed description of these routine uses can be found in the Agency's Systems of Records Web site at http://www.epa.gov/privacy/notice/general.htm.)

Policies and Practices for Storing, Retrieving, Accessing, Retaining, and Disposing of Records in the System:

• Storage: Once information is downloaded from the Eventbrite site to the EPA server, it will be saved to a secure drive in the office that is organizing the event. Records will be saved in electronic format. A printed registration list may be generated for the specific event to be used onsite to track participation, but the list will not be duplicated or distributed to meeting attendees or other event participants.

• Retrievability: Registration information is downloaded from the Eventbrite site in Microsoft Excel format. Each record includes the date the participant registered. Records saved in Excel format may be sorted and retrieved by any of the categories included on the registration form used for any particular event (i.e., name, email address, state, organization, or job title). Files may be saved in Excel or PDF format.

• Safeguards: This information can only be downloaded from the Eventbrite site by the event organizer, using an account specific password. The information will be saved on EPA's secure server within the event sponsoring office. The only EPA staff who will be able to access the registration information are those staff with security access to their office's server.

• Retention and Disposal: Records stored in this system are subject to Schedule 483.

System Manager(s) and Address:

Acting Associate Director of Web Communications and Social Media Lead, OPA/OWC, U.S. Environmental Protection Agency, 1200 Pennsylvania Avenue NW., Washington, DC 20460.

Notification Procedure:

Any individual who wants to know whether this system of records contains a record about him or her, who wants access to his or her record, or who wants to contest the contents of a record, should make a written request to the EPA FOIA Office, Attn: EPA Privacy Officer, MC2822T, 1200 Pennsylvania Avenue NW., Washington, DC 20460.

Record Access Procedure:

Individuals seeking access to information in this system of records about themselves are required to provide adequate identification (e.g. driver's license, military identification card, employee badge or identification card). Additional identity verification procedures may be required, as warranted. Requests must meet the requirements of EPA regulations that implement the Privacy Act of 1974, at 40 CFR part 16.

Contesting Records Procedures:

Requests for correction or amendment must identify the record to be changed and the corrective action sought. The EPA's procedures for making a Privacy Act request can be found in EPA's Privacy Act regulations at 40 CFR part 16.

Record Source Categories:

The information stored in the system will be provided by the individuals registering for an EPA event.

System Exempted from Certain Provisions of the Privacy Act:

None.

[FR Doc. 2015-21384 Filed 8-27-15; 8:45 am]

BILLING CODE P